DEPARTMENT OF ENERGY

Federal Energy Regulatory Commission

[EG08-78-000, EG08-79-000, EG08-80-000, EG08-81-000, EG08-82-000, EG08-84-000, EG08-85-000, FC08-10-000, FC08-11-000]

Shiloh Wind Project 2, LLC, Naturener Glacier Wind Energy 1, LLC, Naturener Montana Wind Energy, LLC, Sherbino I Wind Farm LLC, Wapsipinicon Wind Project, LLC, Smoky Hills Wind Project II, LLC, Hardee Power Partners Limited, Pubnico Point, L.P., Mount Copper, L.P.; Notice of Effectiveness of Exempt Wholesale Generator or Foreign Utility Company Status

October 15, 2008.

Take notice that during the month of September 2008, the status of the above-captioned entities as Exempt Wholesale Generators or Foreign Utility Companies became effective by operation of the Commission's regulations 18 CFR 366.7(a).

Kimberly D. Bose,
Secretary.

[FR Doc. E8-25082 Filed 10-21-08; 8:45 am]

BILLING CODE 6717-01-P